COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before June 25, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s): MR 804—Grill Basket

Mandatory Source(s) of Supply: Cincinnati Association for the Blind, Cincinnati, OH

NSN(s)—Product Name(s):

MR 10760—Activity Pack, Licensed, Pokemon, Includes Shipper 20760

MR 10761—Sticker Pack, Licensed, Pokemon, Includes Shipper 20760

MR 10762—Pen, Licensed, Pokemon, Includes Shipper 20762

MR 10763—Kid's Baking Tools, Licensed, Whisk and Spoon, Includes Shipper 20763

MR 10764—Kid's Baking Tools, Licensed, Turner and Spatula, Includes Shipper 20763

MR 10765—Kid's Baking Tools, Licensed, Rolling Pin and Cookie Cutters, Includes Shipper 20763

MR 10766—Kid's Baking Tools, Licensed, Decorating Set, Includes Shipper 20763

Mandatory Source(s) of Supply: Winston-Salem Industries for the Blind, Inc., Winston-Salem, NC

NSN(s)—Product Name(s):

MR 1176—Mop, Sticky

MR 1177—Refill, Mop, Sticky

Mandatory Source(s) of Supply: LC Industries, Inc., Durham, NC

The following information is applicable to all products listed above.

Mandatory for: The requirements of military commissaries and exchanges in accordance with the Code of Federal Regulations, 41 CFR 51-6.4.

Contracting Activity: Defense Commissary Agency

Distribution: C-List

NSN(s)—Product Name(s):

5340-00-682-1505—Padlock, Laminated Case, 1.5″ Wide Brass, with Chain, Set of 5

5340-00-838-5266—Padlock, Laminated Case, 1.5″ Wide Brass, with Chain, Set of 10

5340-01-050-7059—Padlock, Laminated Case, 1-9/16″ Wide Brass, with Chain, Set of 5

5340-00-838-5267—Padlock, Laminated Case, 1.5″ Wide Brass, with Chain, Set of 20

5340-00-158-3807—Padlock, Laminated Case, 1.75″ Wide Steel, with Chain

5340-00-158-3805—Padlock, Laminated Case, 1.75″ Wide Steel, No Chain

Mandatory for: Total Government Requirement

Mandatory Source(s) of Supply: LC Industries, Inc., Durham, NC

Contracting Activity: Defense Logistics Agency Land and Maritime

Distribution: B-List

Services

Service Type: Administrative Service

Mandatory for: US Navy, NAVSUP, Global Logistics Support, Personal Property/Households Goods Program, 937 N. Harbor Drive, San Diego, CA

Mandatory Source(s) of Supply: Lighthouse for the Blind of Houston, Houston, TX

Contracting Activity: NAVSUP Fleet Logistics Center

Service Type: Mail Management and Support Service

Mandatory for: US Navy, NAVSUP Fleet Logistics Center Norfolk, Naval Support Activity, 5450 Carlisle Pike, Building 112, Mechanicsburg, PA, 700 Robbins Avenue, Building 27D, Philadelphia, PA

Mandatory Source(s) of Supply: NewView Oklahoma, Inc., Oklahoma City, OK

Contracting Activity: US Navy, NAVSUP FLC Norfolk

Deletions

The following products are proposed for deletion from the Procurement List:

Products

NSN(s)—Product Name(s): MR 508—Candle, Spring Scents

Mandatory Source(s) of Supply: South Texas Lighthouse for the Blind, Corpus Christi, TX

Contracting Activity: Defense Commissary Agency

NSN(s)—Product Name(s):

8415-01-543-7018—Trousers, ECWCS. Level 2, PCU, Army, Brown, M-L

8415-01-542-7642—Trousers, ECWCS. Level 2, PCU, Army, Brown, XS

8415-01-542-8534—Trousers, Lightweight Insulating, Level 2, ECWCS, PCU, Army, Brown, XL

8415-01-542-8538—Trousers, Lightweight Insulating, Level 2, ECWCS, PCU, Army, Brown, XXLL

8415-01-542-8540—Trousers, Lightweight Insulating, Level 2, ECWCS, PCU, Army, Brown, XXL

8415-01-542-8542—Trousers, ECWCS, Insulating Level 2, PCU, Army, Brown, S

8415-01-542-8546—Trousers, Lightweight Insulating, Level 2, ECWCS, PCU, Army, Brown, L

8415-01-542-8549—Trousers, Lightweight Insulating, Level 2, ECWCS, PCU, Army, Brown, L-L

8415-01-542-8552—Trousers, Lightweight Insulating, Level 2, ECWCS, PCU, Army, Brown, XL

8415-01-542-8553—Trousers, Lightweight Insulating, Level 2, ECWCS, PCU, Army, Brown, XL-L

8415-01-542-8555—Trousers, Lightweight Insulating, Level 2, ECWCS, PCU, Army, Brown, XXLL

8415-01-542-9612—Trousers, Lightweight Combat, Level 2, ECWCS, PCU, Army, Brown, MR

8415-01-542-8545—Shirt, Lightweight, Level 2, ECWCS, PCU, Army, Long Sleeved, Brown, XXLL

8415-01-542-9576—Shirt, Lightweight, Level 2, ECWCS, PCU, Army, Long Sleeved, Brown, S

8415-01-542-9598—Shirt, Lightweight, Level 2, ECWCS, PCU, Army, Long Sleeved, Brown, M

8415-01-542-9609—Shirt, Lightweight, Level 2, ECWCS, PCU, Army, Long Sleeved, Brown, XL-L

8415-01-542-9613—Shirt, Lightweight, Level 2, ECWCS, PCU, Army, Long Sleeved, Brown, XXXL

8415-01-542-9615—Shirt, Lightweight, Level 2, ECWCS, PCU, Army, Long Sleeved, Brown, XXXLL

8415-01-542-9617—Shirt, Lightweight, Level 2, ECWCS, PCU, Army, Long Sleeved, Brown, XXL

8415-01-543-7047—Shirt, Level 2, ECWCS, PCU, Army, Long Sleeved, Brown, M-L

Mandatory Source(s) of Supply: Southeastern Kentucky Rehabilitation Industries, Inc., Corbin, KY

Contracting Activity: Army Contracting Command—Aberdeen Proving Ground, Natick Contracting Division

NSN(s)—Product Name(s): 8410-01-069-6611—Shirt, Dress, Navy, Women's, Short Sleeved, White, 32x13

Mandatory Source(s) of Supply: Middle Georgia Diversified Industries, Inc., Dublin, GA

Contracting Activity: Defense Logistics Agency Troop Support

NSN(s)—Product Name(s):

8415-01-390-8537—Coat, Combat Type VI, Army, Woodland Camouflage, XS/XS

8415-01-390-8538—Coat, Combat Type VI, Army, Woodland Camouflage, XS/R

8415-01-390-8539—Coat, Combat Type VI, Army, Woodland Camouflage, Small/Short

8415-01-390-8540—Coat, Combat Type VI, Army, Woodland Camouflage, Small/X Long

8415-01-390-8541—Coat, Combat Type VI, Army, Woodland Camouflage, Medium/X Short

8415-01-390-8542—Coat, Combat Type VI, Army, Woodland Camouflage, Medium/XX Short

8415-01-390-8543—Coat, Combat Type VI, Army, Woodland Camouflage, Small/Long

8415-01-390-8544—Coat, Combat Type VI, Army, Woodland Camouflage, Medium/Regular

8415-01-390-8545—Coat, Combat Type VI, Army, Woodland Camouflage, Small/Regular

8415-01-390-8546—Coat, Combat Type VI, Army, Woodland Camouflage, X Small/Short

8415-01-390-8547—Coat, Combat Type VI, Army, Woodland Camouflage, Medium/X Long

8415-01-390-8548—Coat, Combat Type VI, Army, Woodland Camouflage, Medium/Short

8415-01-390-8549—Coat, Combat Type VI, Army, Woodland Camouflage, Medium/Long

8415-01-390-8550—Coat, Combat Type VI, Army, Woodland Camouflage, Large/Regular

8415-01-390-8551—Coat, Combat Type VI, Army, Woodland Camouflage, Large/X Long

8415-01-390-8552—Coat, Combat Type VI, Army, Woodland Camouflage, X Large/Long

8415-01-390-8553—Coat, Combat Type VI, Army, Woodland Camouflage, Large/Long

8415-01-390-8555—Coat, Combat Type VI, Army, Woodland Camouflage, XLR

8415-01-390-8557—Coat, Combat Type VI, Army, Woodland Camouflage, LXS

8415-01-390-9641—Coat, Combat Type VI, Army, Woodland Camouflage, XSS

8415-01-390-9646—Coat, Combat Type VI, Army, Woodland Camouflage, XSXS

8415-01-390-9648—Coat, Combat Type VI, Army, Woodland Camouflage, LS

Mandatory Source(s) of Supply: UNKNOWN

Contracting Activity: Defense Logistics Agency Troop Support

NSN(s)—Product Name(s): 2320-01-398-7190—Combat Identification Kit, HMMWV TOW Platform, Brown

Mandatory Source(s) of Supply: Crossroads Rehabilitation Center, Inc., Indianapolis, IN

Contracting Activity: W4GG HQ US Army TACOM, Warren, MI

NSN(s)—Product Name(s): 8415-00-NSH-0503—Shirt, Underwear, Collared, Chemical Protection, MPS, Army, 56

Mandatory Source(s) of Supply: Peckham Vocational Industries, Inc., Lansing, MI

Contracting Activity: W40M NORTHEREGION Contract Ofc, Fort Belvoir, VA

Amy B. Jensen,
Director, Business Operations.

[FR Doc. 2017-10901 Filed 5-25-17; 8:45 am]

BILLING CODE 6353-01-P